DEPARTMENT OF ENERGY

Federal Energy Regulatory Commission

Combined Notice of Filings #1

Take notice that the Commission received the following electric rate filings:

Docket Numbers: ER18-533-005; ER22-48-002; ER18-538-006; ER18-537-005; ER18-535-005; ER18-280-007; ER18-536-005; ER12-1436-018; ER18-534-005.

Applicants: Montpelier Generating Station, LLC, Eagle Point Power Generation LLC, O.H. Hutchings CT, LLC, Lee County Generating Station, LLC, Yankee Street, LLC, Monument Generating Station, LLC, Sidney, LLC, Gridflex Generation, LLC, Tait Electric Generating Station, LLC.

Description: Supplement to June 30, 2023, Triennial Market Power Analysis for Northeast Region of Eagle Point Power Generation LLC, et al.

Filed Date: 3/6/24.

Accession Number: 20240306-5189.

Comment Date: 5 p.m. ET 3/27/24.

Docket Numbers: ER22-2230-000; ER13-1562-011; ER22-2233-000; ER22-2234-000; ER22-2235-000; ER22-2236-000; ER22-2231-000; ER22-2232-000; ER12-1931-012; ER10-2504-013; ER12-610-013; ER13-338-011; ER19-2260-001.

Applicants: Valentine Solar, LLC, Shiloh IV Lessee, LLC, Shiloh III Lessee, LLC, Shiloh Wind Project 2, LLC, Pacific Wind Lessee, LLC, Maverick Solar 7, LLC, Maverick Solar 6, LLC, Maverick Solar 4, LLC, Maverick Solar, LLC, Desert Harvest II LLC, Desert Harvest, LLC, Catalina Solar Lessee, LLC, BigBeau Solar, LLC.

Description: Supplement to June 29, 2022, Triennial Market Power Analysis BigBeau Solar, LLC, et al.

Filed Date: 3/6/24.

Accession Number: 20240306-5195.

Comment Date: 5 p.m. ET 3/27/24.

Docket Numbers: ER23-2935-002.

Applicants: Midcontinent Independent System Operator, Inc., Northern Indiana Public Service Company LLC.

Description: Tariff Amendment: Midcontinent Independent System Operator, Inc. submits tariff filing per 35.17(b): 2024-03-07_Amendment NIPSCO Request for Depreciation Rates-Supplemental to be effective 8/1/2023.

Filed Date: 3/7/24.

Accession Number: 20240307-5025.

Comment Date: 5 p.m. ET 3/28/24.

Docket Numbers: ER24-1007-001.

Applicants: Black Hills Colorado Electric, LLC.

Description: Tariff Amendment: Amendment to Unreserved Use Penalty and Transmission Planning Updates to be effective 5/7/2024.

Filed Date: 3/7/24.

Accession Number: 20240307-5123.

Comment Date: 5 p.m. ET 3/28/24.

Docket Numbers: ER24-1421-000.

Applicants: Superstition Energy Storage LLC.

Description: Baseline eTariff Filing: Application for MBR Authorization and Request for Waivers to be effective 3/18/2024.

Filed Date: 3/6/24.

Accession Number: 20240306-5156.

Comment Date: 5 p.m. ET 3/27/24.

Docket Numbers: ER24-1422-000.

Applicants: PJM Interconnection, L.L.C.

Description: § 205(d) Rate Filing: Amendment to AE2-226 ISA No. 6736 (amend_mcd) to be effective 5/7/2024.

Filed Date: 3/7/24.

Accession Number: 20240307-5067.

Comment Date: 5 p.m. ET 3/28/24.

Docket Numbers: ER24-1423-000.

Applicants: Midcontinent Independent System Operator, Inc.

Description: § 205(d) Rate Filing: 2024-03-07_MEAN Integration Revisions to Schedules 7, 8, and 9 to be effective 6/1/2024.

Filed Date: 3/7/24.

Accession Number: 20240307-5133.

Comment Date: 5 p.m. ET 3/28/24.

Docket Numbers: ER24-1424-000.

Applicants: MidAmerican Energy Company.

Description: § 205(d) Rate Filing: Joint Pricing Zone Revenue Allocation Agreement (4th Rev) to be effective 6/1/2024.

Filed Date: 3/7/24.

Accession Number: 20240307-5167.

Comment Date: 5 p.m. ET 3/28/24.

The filings are accessible in the Commission's eLibrary system (https://elibrary.ferc.gov/idmws/search/fercgensearch.asp) by querying the docket number.

Any person desiring to intervene, to protest, or to answer a complaint in any of the above proceedings must file in accordance with Rules 211, 214, or 206 of the Commission's Regulations (18 CFR 385.211, 385.214, or 385.206) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

The Commission's Office of Public Participation (OPP) supports meaningful public engagement and participation in Commission proceedings. OPP can help members of the public, including landowners, environmental justice communities, Tribal members and others, access publicly available information and navigate Commission processes. For public inquiries and assistance with making filings such as interventions, comments, or requests for rehearing, the public is encouraged to contact OPP at (202) 502-6595 or OPP@ferc.gov.

Dated: March 7, 2024.
Debbie-Anne A. Reese,
Acting Secretary.

[FR Doc. 2024-05330 Filed 3-12-24; 8:45 am]

BILLING CODE 6717-01-P